DEPARTMENT OF ENERGY

Federal Energy Regulatory Commission

[Project No. 6904-043; Project No. 6903-037]

Battenkill Hydro Associates; Notice of Scoping Period Requesting Comments on Environmental Issues for the Proposed Upper and Middle Greenwich Hydroelectric Projects

Take notice that the following hydroelectric applications have been filed with the Commission and are available for public inspection.

a. Type of Applications: Subsequent Minor License.

b. Project Nos.: 6904-043, 6903-037.

c. Date filed: January 31, 2024.

d. Applicant: Battenkill Hydro Associates (Battenkill Hydro).

e. Name of Projects: Upper and Middle Greenwich Hydroelectric Projects (Upper Greenwich Project and Middle Greenwich Project).

f. Location: On the Batten Kill River in the Village of Greenwich, Washington County, New York.

g. Filed Pursuant to: Federal Power Act 16 U.S.C. 791(a)-825(r).

h. Applicant Contact: Sherri Loon, Coordinator—Operations USA, Kruger Energy, LP, 423 Brunswick Ave., Gardiner, ME 04345; (207) 203-3026; sherri.loon@kruger.com or Lewis Loon, General Manager—Operations and Maintenance USA, Kruger Energy, LP, 423 Brunswick Ave., Gardiner, ME 04345; (207) 203-3027; lewis.loon@kruger.com.

i. FERC Contact: Chris Millard, Project Coordinator, Mid-Atlantic Branch, Division of Hydropower Licensing; telephone at (202) 502-8256, email at christopher.millard@ferc.gov.

j. The staff of the Federal Energy Regulatory Commission (FERC or Commission) will prepare an environmental document that will discuss the environmental effects of relicensing the Upper and Middle Greenwich Projects. The Commission will use this environmental document in its decision-making process to determine whether to issue subsequent licenses for the projects.

k. This notice announces the opening of the scoping process the Commission will use to gather input from the public and interested agencies regarding the projects. This notice is intended to advise all participants as to the potential scope of the National Environmental Policy Act (NEPA) document and to seek additional information pertinent to this analysis. Commission staff does not intend to issue a separate scoping document.

As part of the NEPA review process, the Commission takes into account concerns the public may have about proposals and the environmental effects that could result from its action whenever it considers the issuance of a hydropower license. This gathering of public input is referred to as “scoping.” The main goal of the scoping process is to focus the analysis in the environmental document on the important environmental issues.

l. Scoping Comments: By this notice, the Commission requests written public comments on the scope of issues to address in the environmental document. To ensure that your comments are timely and properly recorded, please submit your comments so that the Commission receives them in Washington, DC on or before 5:00 p.m. Eastern Time on December 1, 2025.

Comments should focus on the potential environmental effects and reasonable alternatives. Your input will help Commission staff determine what issues to evaluate in the environmental document. Commission staff will consider all written comments during the preparation of the environmental document.

The Commission strongly encourages electronic filing. Please file scoping comments using the Commission's eFiling system at https://ferconline.ferc.gov/FERCOnline.aspx. Commenters can submit brief comments up to 10,000 characters, without prior registration, using the eComment system at https://ferconline.ferc.gov/QuickComment.aspx. You must include your name at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: Upper Greenwich Hydroelectric Project (P-6904-043) or Middle Greenwich Hydroelectric Project (P-6903-037).

The Commission's Rules of Practice and Procedure require all intervenors filing documents with the Commission to serve a copy of that document on each person on the official service list for each project. Further, if an intervenor files comments or documents with the Commission relating to the merits of an issue that may affect the responsibilities of a particular resource agency, they must also serve a copy of the document on that resource agency.

m. The applications are not ready for environmental analysis at this time.

n. Project Descriptions:

Upper Greenwich Project

The Upper Greenwich Project consists of a 203-foot-long, 11.5-foot-high concrete gravity spillway dam topped with 2-foot-high flashboards. The dam creates an impoundment that has a surface area of 20-acres at a normal surface elevation of 334 feet National Geodetic Vertical Datum of 1929 (NGVD29). Water flows from the project impoundment through a 200-foot-long earthen power canal and trash racks with 1.0-inch clear bar spacing before entering the project powerhouse through two intake gates. Water passes through two vertical turbine-generator units with a rated capacity of 300 kilowatts (kW) and is released from the powerhouse into a tailrace channel leading to the Batten Kill River. Interconnection to the regional electric grid is accomplished through a 0.48/4.8-kilovolt (kV) transformer connected to a 150-foot-long transmission line.

Project recreation facilities include: (1) a canoe portage trail around the project dam with a landing area upstream of the dam and two river entry points, one in the bypassed reach and one just downstream of the bypassed reach; (2) a warning sign 300 feet upstream of the canoe landing area alerting canoeists of a necessary portage; and (3) an off-road parking area to accommodate 8 to 10 cars.

Battenkill Hydro proposes to: (1) continue to operate the project in a run-of-river mode, where outflow from the project approximates inflow; (2) provide a year-round, continuous minimum flow of 80 cubic feet per second (cfs) or inflow, whichever is less, to the bypassed reach; (3) provide a year-round, continuous attraction flow of 20 cfs to the project's fish bypass; (4) maintain trash racks with 1.0-inch clear bar spacing; (5) perform a downstream fishway evaluation within one year of restarting the project; ¹ (6) develop a stream flow monitoring plan; (7) develop an invasive species management plan; (8) develop a bald eagle management plan; (9) update the existing recreation plan, and (10) provide recreational improvements, including (a) the installation of three picnic tables on the grassy area on river left, (b) installation of parking signage, (c) installation of canoe portage signage, (d) conduct routine vegetation maintenance of the canoe portage put-in area, (e) conduct routine mowing of grassy areas, (f) provide new decking (or similar) for the trail crossing the project's power canal intake, and (g) conduct routine maintenance of the trail crossing the project's power canal intake and the angler access trail to control vegetation and noxious plants.

¹ Both projects have operated intermittently since 2009 and, more recently, have been offline due to National Grid's planned upgrades to the grid and interconnection points associated with the projects. In its December 17, 2024 response to staff's June 5, 2024 request for additional information, Battenkill Hydro stated that National Grid's upgrades were expected to be completed by June 2025 and that project operation was expected to resume by the end of July 2025.

Middle Greenwich Project

The Middle Greenwich Project consists of a 235-foot-long, 10-foot-high concrete gravity spillway dam. The dam creates an impoundment that has a surface area of 9 acres at a normal surface elevation of 318 feet NGVD29. Water flows from the project impoundment to the powerhouse through a 150-foot-long concrete power canal with an upstream headgate structure containing two gates and a downstream trash rack with 1.0-inch clear bar spacing. Water then enters a single vertical turbine-generator unit with a rated capacity of 300 kW and is released from the powerhouse into a tailrace channel leading to the Batten Kill River. Interconnection to the regional electric grid is accomplished through a 0.48/4.8-kV transformer connected to a 150-foot-long transmission line.

Project recreation facilities include: (1) angler access to the reservoir and tailrace; (2) a canoe portage area at the project dam; and (3) an off-road parking area to accommodate six to eight cars.

Battenkill Hydro proposes to: (1) continue to operate the project in a run-of-river mode, where outflow from the project approximates inflow; (2) provide a year-round, continuous minimum flow of 20 cfs or inflow, whichever is less, to the bypassed reach; (3) provide a year-round, continuous attraction flow of 20 cfs to the project's fish bypass; (4) maintain trash racks with 1.0-inch clear bar spacing; (5) perform a downstream fishway evaluation within one year of restarting the project; ² (6) develop a stream flow monitoring plan; (7) develop an invasive species management plan; (8) develop a bald eagle management plan; (9) update the existing recreation plan; and (10) provide recreational improvements, including (a) the installation of two picnic tables on the grassy area on river right, (b) installation of canoe portage trail signage, (c) conduct routine vegetation maintenance of the canoe portage put-in area, and (d) conduct routine mowing of grassy areas.

² Ibid.

A copy of the applications, with details of the proposed projects, can be viewed on the Commission's website at http://www.ferc.gov, using the “eLibrary” link. Enter the project's docket number, excluding the last three digits in the docket number field, to access the document (P-6904 or P-6903). For assistance, contact FERC at FERCOnlineSupport@ferc.gov, or call toll-free, (866) 208-3676 or (202) 502-8659 (TTY).

o. NEPA Process and the Environmental Document: Any environmental document issued by the Commission will discuss effects that could occur as a result of the projects' relicensing under the relevant general resource areas, such as:

• geology and soils;

• aquatic resources;

• terrestrial resources;

• threatened and endangered species;

• recreation, land use, and aesthetic resources;

• cultural resources; and

• developmental resources.

Commission staff will also evaluate reasonable alternatives to the proposed projects or portions of the projects and make recommendations on how to lessen or avoid effects on the various resource areas. Your comments will help Commission staff identify and focus on the issues that might have an effect on the human environment and potentially eliminate others from further discussion in the environmental document.

Following this scoping period, Commission staff will determine whether to prepare an Environmental Assessment (EA) or an Environmental Impact Statement (EIS). The EA or EIS will present Commission staff's independent analysis of the issues. If Commission staff prepares an EA, a Notice of Intent to Prepare an Environmental Assessment will be issued. The EA may be issued for an allotted public comment period. The Commission will consider timely comments on the EA before making its decision regarding the proposed projects. If Commission staff prepares an EIS, a Notice of Intent to Prepare an Environmental Impact Statement will be issued. Staff will then prepare a draft EIS which will be issued for public comment. Commission staff will consider all timely comments received during the comment period on the draft EIS and revise the document, as necessary, before issuing a final EIS. Any EA or draft and final EIS will be available in electronic format in the public record through eLibrary. If eSubscribed, you will receive instant email notification when the environmental document is issued (see paragraph (q) of this notice for instructions on using eSubscription).

p. The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

q. This notice is being distributed to the Commission's official mailing list for each project and any additional entities on the applicant's distribution lists. You can access the Commission's official mailing list for the Upper Greenwich Project at https://ferconline.ferc.gov/MailListLOR.aspx?Type=MailList&ListVar=P-6904 or the Middle Greenwich Project at https://ferconline.ferc.gov/MailListLOR.aspx?Type=MailList&ListVar=P-6903. If you want to receive future mailings for either project and are not included on the Commission's official mailing list(s), or if you wish to be removed from the Commission's official mailing list(s), please send your request by email to FERCOnline Support@ferc.gov. In lieu of an email request, you may submit a paper request. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All written or emailed requests must specify your wish to be added to or removed from the mailing list, and must clearly identify the following on the first page: Upper Greenwich Hydroelectric Project (P-6904-043) or Middle Greenwich Hydroelectric Project (P-6903-037).

Additionally, the Commission offers a free service called eSubscription, which makes it easy to stay informed of all issuances and submittals regarding the dockets/projects to which you subscribe. These instant email notifications are the fastest way to receive notification and provide a link to the document files, which can reduce the amount of time you spend researching proceedings. Go to https://www.ferc.gov/ferc-online/overview to register for eSubscription.

In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-6904 or P-6903). For assistance, contact FERC at FERCOnlineSupport@ferc.gov, (866) 208-3676 (toll free), or (202) 502-8659 (TTY).

Dated: October 31, 2025.
Carlos D. Clay,
Deputy Secretary.

[FR Doc. 2025-20866 Filed 11-24-25; 8:45 am]

BILLING CODE 6717-01-P